DEPARTMENT OF HOUSING AND URBAN DEVELOPMENT

[Docket No. FR-5610-N-04]

Notice of Proposed Information for Public Comment for: Public Housing Capital Fund Program

AGENCY: Office of the Assistant Secretary for Public and Indian Housing, HUD.

ACTION: Notice.

SUMMARY: The proposed information collection requirement described below will be submitted to the Office of Management and Budget (OMB) for review, as required by the Paperwork Reduction Act. The Department is soliciting public comments on the subject proposal.

Each year Congress appropriates funds to approximately 3,100 Public Housing Authorities (PHAs) for modernization, development, financing, and management improvements. The funds are allocated based on a complex formula. The forms in this collection are used to appropriately disburse and utilize the funds provided to PHAs. Additionally, these forms provide the information necessary to approve a financing transaction in addition to any Capital Fund Financing transactions. Respondents include the approximately 3,100 PHA receiving Capital Funds and any other PHAs wishing to pursue financing.

DATES: Comments Due Date: May 7, 2012.

ADDRESSES: Interested persons are invited to submit comments regarding this proposed information collection. Comments should refer to the proposal by name and/or OMB Control Number (2577-0157) and should be sent to: Colette Pollard, Departmental Reports Management Officer, QDAM, Department of Housing and Urban Development, 451 Seventh Street SW., Room 4176, Washington, DC 20410; telephone: 202-402-2400, (this is not a toll-free number) or email Ms. Pollard at Colette.Pollard@hud.gov. Persons with hearing or speech impairments may access this number through TTY by calling the toll-free Federal Information Relay Service at (800) 877-8339. (Other than the HUD USER information line and TTY numbers, telephone numbers are not toll-free.) Persons with hearing or speech impairments may access this number via TTY by calling the Federal Information Relay Service at (800) 877-8339.

FOR FURTHER INFORMATION CONTACT: Arlette Mussington, Office of Policy, Programs and Legislative Initiatives, PIH, Department of Housing and Urban Development, 451 7th Street SW., (L'Enfant Plaza, Room 2206), Washington, DC 20410; telephone 202-402-4109, (this is not a toll-free number).

SUPPLEMENTARY INFORMATION: The Department will submit the proposed information collection to OMB for review, as required by the Paperwork Reduction Act of 1995 (44 U.S.C. Chapter 35, as amended). This Notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice also lists the following information:

Title of Proposal: Public Housing Capital Fund Program.

OMB Control Number, if applicable: 2577-0157.

Description of the need for the information and proposed use: HUD is revising the Actual Modernization Cost Certificate (AMCC)—HUD Form 53001 contained within the Public Housing Capital Fund Program collection OMB Control Number 2577-0157. The AMCC reports on actual cost of modernization activities upon its completion. The grant type title on the AMCC of Comprehensive Improvement Assistance Program and Comprehensive Grant Program will be changed to Capital Fund Program (CFP). The PHA certification section will have two check mark boxes added for the PHA to certify if the Single Audit Act (SAA) A-133 requirement applies to the CFP grant specified on the AMCC (1-check box for SAA requirement applicable, 1-check box for SAA requirement not applicable). The “HUD Use Only section” will remove “the audited costs agree with the costs shown above” due to numerous PHAs that are not subject to Independent Public Accountant (IPA) audit requirements.

Agency form numbers, if applicable: HUD Form 53001—Actual Modernization Cost Certificate.

Members of Affected Public: State, Local or Local Government and Non-profit organization.

Estimation of the total number of hours needed to prepare the information collection including number of respondents, frequency of response, and hours of response: The estimated number of respondents is 3,100 with 72,844 annual responses and the total reporting burden is 265,267 hours.

Status of the proposed information collection: Revision of an existing collection.

Authority: section 3506 of the Paperwork Reduction Act of 1995, 44 U.S.C. Chapter 35, as amended.

Dated: March 1, 2012.
Merrie Nichols-Dixon,
Deputy Director for Office of Policy, Program and Legislative Initiatives.

[FR Doc. 2012-5506 Filed 3-6-12; 8:45 am]

BILLING CODE 4210-67-P